THE NATIONAL FOUNDATION FOR THE ARTS AND THE HUMANITIES

Notice of Proposed Information Collection: Request for General Clearance Authority for 2007-2009 for Collections from Institute of Museum and Library Services Grantees for the Purposes of Evaluation and Reporting

AGENCY: Institute of Museum and Library Services, The National Foundation for the Arts and the Humanities.

SUMMARY: The Institute of Museum and Library Service (IMLS), as part of its continuing effort to reduce paperwork and respondent burden, conducts a pre-clearance consultation program to provide the general public and federal agencies with an opportunity to comment on proposed and/or continuing collections of information in accordance with the Paperwork Reduction Act of 1995 (PRA95) [44 U.S.C. 3508(2)(A)]. This program helps to ensure that requested data can be provided in the desired format, reporting burden (time and financial resources) is minimized, collection instruments are clearly understood, and the impact of collection requirements on respondents can be properly assessed. Currently the Institute of Museum and Library Services is soliciting comments concerning a requested General Clearance Authority for data collections in Fiscal Years 2007-2009 to evaluate IMLS programs and to inform IMLS program administration, evaluate programs and services, and assess impact.

A copy of the information collection plan for 2007-2009 and a sample of the information collections included under this clearance request can be obtained by contacting the individual listed below in the ADDRESSES section of this notice.

DATES: Written comments must be submitted to the office listed in the ADDRESSES section below on or before August 13, 2007.

IMLS is particularly interested in comments that help the agency to:

• Evaluate whether the proposed collection of information is necessary for the proper performance of the functions of the agency, including whether the information will have practical utility;

• Evaluate the accuracy of the agency's estimate of the burden of the proposed collections of information, including the validity of the methodology and assumptions likely to be used;

• Enhance the quality, utility and clarity of information to be collected; and

• Minimize the burden of the collection of information on those who are to respond, including through the use of appropriate automated electronic, mechanical, or other technological collection techniques or other forms of information technology, e.g., permitting electronic submissions of responses.

ADDRESSES: Send comments to Barbara G. Smith, E-Projects Officer, Office of the CIO, Institute of Museum and Library Services, 1800 M Street, NW., 9th Floor, Washington, DC 20036. Ms. Smith can be reached by Telephone: 202-653-4688, Fax: 202-653-4625, or by e-mail at bsmith@imls.gov.

SUPPLEMENTARY INFORMATION: The Institute of Museum and Library Services is an independent Federal grant-making agency authorized by the Museum and Library Services Act, 20 U.S.C. 9101, et seq. The IMLS administers a variety of grant programs to assist the nation's museums and libraries in improving their operations and enhancing their services to the public. Museums and libraries of all sizes and types may receive support from IMLS programs. The Museum and Library Services Act directs the Agency to conduct analyses on the impact, effectiveness, and best practices of IMLS grants for museum and library services. (See 20 U.S.C. 9108.)

Abstract: Pursuant to the Museum and Library Services Act (20 U.S.C. 9108), IMLS must regularly evaluate its programs to understand trends, impact, and effectiveness of its grants for museum and library services. It seeks General Clearance Authority to conduct surveys and other information collections from the universe of its grantees for this purpose.

OMB Number: N/A.

Agency Number: 3137.

Affected Public: Federal, state and local governments, state library agencies, libraries, museums, and professional associations and service organizations serving these fields who have received IMLS awards.

Number of Respondents: 2000.

Frequency: Annually.

Burden Hours Per Respondent: 1 Total burden hours: 2000.

Total Annualized Capital/Startup Costs: N/A.

Total Costs: $51,440 (average respondent hourly wage of $23.64 with annual increases of 5% over 5 years × 2000).

Contact: Barbara G. Smith, E-Projects Officer, Office of Information Resources Management, Institute of Museum and Library Services, 1800 M Street, NW., 9th Floor, Washington, DC 20036. Ms. Smith can be reached by Telephone: 202-653-4688, Fax: 202-653-4625, or by e-mail at bsmith@imls.gov.

Dated: June 11, 2007.
Barbara G. Smith,
E-Projects Officer.

[FR Doc. E7-11486 Filed 6-13-07; 8:45 am]

BILLING CODE 7036-01-P